DEPARTMENT OF THE INTERIOR

Fish and Wildlife Service

Proposed Programmatic Statewide Red-cockaded Woodpecker Safe Harbor Agreement, AL

AGENCY: Fish and Wildlife Service, Interior.

ACTION: Notice of availability.

SUMMARY: This notice advises the public that the Alabama Department of Conservation and Natural Resources (ADCNR, or Applicant) has applied to the Fish and Wildlife Service (Service) for an enhancement of survival permit (ESP) under section 10(a)(1)(A) of the Endangered Species Act of 1973, as amended (Act). The ESP application includes a proposed Safe Harbor Agreement (SHA) for the endangered Red-cockaded Woodpecker (Picoides borealis) (RCW) for a period of 99 years, along with a supporting Environmental Assessment (EA). We announce the opening of a 30-day comment period and request comments from the public on the proposed SHA and the supporting EA.

DATES: Written comments should be sent to the Service's Regional Office (see ADDRESSES) and must be received on or before July 13, 2006.

ADDRESSES: To obtain copies of the proposed SHA and the supporting EA for review, write to the Service's Southeast Regional Office, 1875 Century Boulevard, Suite 200, Atlanta, Georgia 30345 (Attn: Endangered Species Permits). Send your comments to this address as well. For commenting guidelines, see “Public Comments” under SUPPLEMENTARY INFORMATION.

Documents will also be available for public inspection by appointment during normal business hours at the Regional Office in Atlanta, or at our Field Office located at 1208-B Main Street, Daphne, Alabama 36526. Do not write to this address.

FOR FURTHER INFORMATION CONTACT: Mr. Rick Gooch, Regional Safe Harbor Coordinator, at the Atlanta address above, 404-679-7124 (phone), or 404-679-7081 (facsimile), or Mr. Dan Everson, Fish and Wildlife Biologist, at the Daphne address above or 251-441-5837 (phone).

SUPPLEMENTARY INFORMATION: The Applicant has applied to the Service for an ESP under section 10(a)(1)(A) of the Endangered Species Act of 1973, as amended (Act) (16 U.S.C. 1531 et seq.). The application includes a proposed SHA for the endangered RCW for a period of 99 years, along with a supporting EA. We announce the opening of a 30-day comment period and request comments from the public on the proposed SHA and the supporting EA. If approved, the SHA would allow the Applicant to issue certificates of inclusion throughout the state of Alabama to eligible non-Federal landowners that complete an approved Safe Harbor Management Agreement (SHMA).

Background

The EA identifies and describes several alternatives. All comments received, including names and addresses, will become part of the official administrative record and may be made available to the public, subject to the requirements of the Privacy Act and Freedom of Information Act. For further information and instructions on reviewing and commenting on this application, see ADDRESSES and, in this section, “Public Comments.”

Under a SHA, participating property owners voluntarily undertake management activities on their property to enhance, restore, or maintain habitat benefiting species listed under the Act. SHAs encourage private and other non-Federal property owners to implement conservation efforts for listed species by assuring property owners they will not be subjected to increased property use restrictions if their efforts attract listed species to their property or increase the numbers or distribution of listed species already on their property. Application requirements and issuance criteria for enhancement of survival permits through SHAs are found in 50 CFR 17.22 and 17.32.

ADCNR's proposed Statewide SHA is designed to encourage voluntary RCW habitat restoration or enhancement activities by relieving a landowner who enters into a landowner-specific agreement (i.e., the SHMA) from any additional responsibility under the Act beyond that which exists at the time he or she enters into the program. The SHMA will identify any existing RCWs and any associated habitat (the baseline) and will describe the actions that the landowner commits to take (e.g., hardwood midstory removal, cavity provisioning) or allows to be taken to improve RCW habitat on the property, and the time period within which those actions are to be taken and maintained. A participating landowner must maintain the baseline on his/her property (i.e., any existing RCW groups and/or associated habitat), but may be allowed the opportunity to incidentally take RCWs at some point in the future if above-baseline numbers of RCWs are attracted to that site by the proactive management measures undertaken by the landowner. It is important to note that the SHA does not envision, nor will it authorize, incidental take of existing RCW groups, with one exception. This exception is incidental take related to a baseline shift; in this circumstance, the baseline will be maintained but redrawn or shifted on that landowner's property. Among the minimization measures proposed by the Applicant are no incidental taking of RCWs during the breeding season, consolidation of small, isolated RCW populations at sites capable of supporting a viable RCW population, and measures to improve current and potential habitat for the species. Further details on the topics described above are found in the aforementioned documents available for review under this notice.

The geographic scope of the Applicant's SHA is the State of Alabama. Lands potentially eligible for inclusion include all privately owned lands, State lands, and public lands owned by cities, counties, and municipalities with potentially suitable RCW habitat.

We have evaluated several alternatives to the proposed action, and these are described at length in the accompanying EA. The alternative of our paying landowners for desired management practices is not being pursued because we are presently unable to fund such a program. An alternative by which interested private or non-Federal property owners would prepare an individual permit application/Agreement with us also was evaluated. Under that alternative, we would process each permit application/Agreement individually. This would increase the effort, cost, and amount of time it would take to provide safe harbor assurances to participating landowners and also cause such benefits to be applied on a piecemeal, individual basis. We have determined the previously identified alternatives, which would result in delays and lack of a coordinated effort, would likely result in a continued decline of the RCWs on private lands due to habitat fragmentation, lack of beneficial habitat management, and the effects of demographic isolation.

A no-action alternative was also explored, but this alternative is not likely to increase the number of RCW groups or RCW habitat, nor would it alleviate landowner conflicts. Instead, the action proposed here, although it authorizes future incidental take, is expected to attract sufficient interest among Alabama landowners to generate substantial net conservation benefits to the RCW on a landscape level. The proposed SHA was developed in an adaptive management framework to allow changes in the program based on new scientific information, including but not limited to biological needs and management actions proven to benefit the species or its habitat.

Public Comments

Written data or comments should be submitted to the Regional Office at the address listed under ADDRESSES and must be submitted in writing to be adequately considered in the Service's decision-making process. Please reference the “Proposed Programmatic Alabama Statewide Red-cockaded Woodpecker Safe Harbor Agreement” in your comments, or in requests for the documents discussed in this notice.

Decision

We will not make our final determination until after the end of the 30-day comment period, and we will fully consider all comments received during the comment period. If the final analysis shows the SHA to be consistent with the Service's policies and applicable regulations, the Service will sign the SHA and issue the ESP.

Authority

We are providing this notice under section 10(c) of the Endangered Species Act and implementing regulations for the National Environmental Policy Act (40 CFR part 1506).

Dated: May 25, 2006.
Cynthia K. Dohner,
Acting Regional Director, Southeast Region.

[FR Doc. E6-9169 Filed 6-12-06; 8:45 am]

BILLING CODE 4310-55-P